DEPARTMENT OF THE INTERIOR

Fish and Wildlife Service

Endangered Species Permit Application; Notice of Extension of Comment Period

The Fish and Wildlife Service gives notice that the public comment period is extended for an application submitted by Johnny Lam Animal Shows, c/o Mitchel Kalmanson, Maitland, FL, PRT—020184. The application was submitted to satisfy requirements of the Endangered Species Act of 1973, as amended (16 U.S.C. 1531, et seq.). The application is for the import and re-export of captive-born Chimpanzees (Pan troglodytes) and Orangutan (Pongo pygmaeus) for enhancement of the survival of the species through conservation education. The extension will allow all interested parties to submit written comments. The Fish and Wildlife Service published a notice of receipt of the application on Monday, December 27, 1999. Written comments may now be submitted until March 1, 2000, and should be submitted to the Director, U.S. Fish and Wildlife Service, Office of Management Authority, 4401 North Fairfax Drive, Room 700, Arlington, Virginia 22203.

Dated: February 11, 2000.
Kristen Nelson,
Chief, Branch of Permits (Domestic), Office of Management Authority.

[FR Doc. 00-3717 Filed 2-15-00; 8:45 am]

BILLING CODE 4310-55-P